DEPARTMENT OF DEFENSE

Office of the Secretary

Federal Advisory Committee

AGENCY: Department of Defense.

ACTION: Notice of meeting.

SUMMARY: In accordance with section 10(a)(2) of Public Law 92-463, The Federal Advisory Committee Act, announcement is made of the following meeting:

Name of Committee: DoD Task Force on the Future of Military Health Care, a Subcommittee of the Defense Health Board.

Dates: February 6, 2007.

Times: 1 p.m.-4:30 p.m.

Location: National Transportation Safety Board Conference Center, 429 L'Enfant Plaza, Washington, DC 20594.

Agenda: The purpose of the meeting is to obtain, review, and evaluate information related to the Future of Military Health Care Task Force's congressionally-directed task to examine matters relating to the future of military health care. The Task Force members will receive briefings on topics related to the delivery of military health care. Additional information and meeting registration is available online at the Defense Health Board Web site, http://www.ha.osd.mil/dhb.

Due to the Task Force co-chairs' decision to accelerate the next meeting of the Task Force, the Committee Management Office for the Department of Defense has authorized a waiver to the fifteen day notification requirement.

FOR FURTHER INFORMATION CONTACT: Colonel Christine Bader, Executive Secretary, Defense Health Board, Skyline One, 5205 Leesburg Pike, Suite 810, Falls Church, VA 22041, (703) 681-3279, ext. 109. http://www.ha.osd.mil/dhb.

SUPPLEMENTARY INFORMATION: The session on February 6, 2007 will be open to the public in accordance with Section 552b(b) of Title 5, U.S.C., specifically subparagraph (1) thereof and Title 5, U.S.C., appendix 1, subsection 0(d). Open sessions of the meeting will be limited by spaced accommodations. Any interested person may attend, appear before or file statements with the Task Force at the time and in the manner permitted by the Task Force.

Dated: January 18, 2007.
L.M. Bynum,
Alternate OSD Federal Register, Liaison Officer, Department of Defense.

[FR Doc. 07-277 Filed 1-23-07; 8:45 am]

BILLING CODE 5001-06-M